DEPARTMENT OF COMMERCE

International Trade Administration

U.S. Department of Commerce Trade Finance Advisory Council

AGENCY: International Trade Administration, Department of Commerce.

ACTION: Notice of an open meeting.

SUMMARY: The U.S. Department of Commerce Trade Finance Advisory Council (TFAC or the Council) will hold a virtual meeting on Tuesday, April 12, 2022. The meeting is open to the public with registration instructions provided below.

DATES: Tuesday, April 12, 2022, from approximately 1:00 p.m. to 3:00 p.m. Eastern Daylight Time (EDT). The deadline for members of the public to register, including requests to make comments during the meeting and for auxiliary aids, or to submit written comments for dissemination prior to the meeting, is 5:00 p.m. EDT on Thursday, April 7, 2022. Before March 31, 2022, registration, comments, and any auxiliary aid requests should be submitted via email to Patrick.Zimet@trade.gov, and after March 31, 2022, they should be submitted to Yuki.Fujiyama@trade.gov.

ADDRESSES: The meeting will be held virtually via Microsoft Teams video conferencing.

FOR FURTHER INFORMATION CONTACT: Before March 31, 2022, Patrick Zimet, Designated Federal Officer, Office of Finance and Insurance Industries (OFII), International Trade Administration, U.S. Department of Commerce at (202) 306-9474; email: Patrick.Zimet@trade.gov.

After March 31, 2022, contact Yuki Fujiyama at (202) 617-9599; email: Yuki.Fujiyama@trade.gov.

SUPPLEMENTARY INFORMATION:

Background: The TFAC was originally chartered on August 11, 2016, pursuant to discretionary authority and in accordance with the Federal Advisory Committee Act, as amended, 5 U.S.C. App., and was most recently re-chartered on August 7, 2020. The TFAC serves as the principal advisory body to the Secretary of Commerce on policy matters relating to access to trade finance for U.S. exporters, including small- and medium-sized enterprises, and their foreign buyers. The TFAC is the sole mechanism by which the Department of Commerce convenes private sector stakeholders to identify and develop consensus-based solutions to trade finance challenges. The Council is comprised of a diverse group of stakeholders from the trade finance industry and the U.S. exporting community, as well as experts from academia and public policy organizations.

On Tuesday, April 12, 2022, the TFAC will hold the third meeting of its 2020-2022 charter term. During the meeting, the TFAC will receive an update on the implementation status of previously adopted recommendations, the subcommittees will put forth recommendations for a vote by the full TFAC, and the TFAC will discuss potential future recommendations and its plan for the remainder of the charter term.

Meeting minutes will be available within 90 days of the meeting upon request or on the TFAC's website at https://www.trade.gov/about-us/trade-finance-advisory-council-tfac.

Public Participation: The meeting will be open to the public and there will be limited time permitted for public comments. Members of the public seeking to attend the meeting, make comments during the meeting, request auxiliary aids, or submit written comments for consideration prior to the meeting, are required to submit their requests electronically to Patrick.Zimet@trade.gov by 5:00 p.m. EDT on Friday, March 31, 2022, or Yuki.Fujiyama@trade.gov by 5:00 p.m. EDT on Thursday, April 7, 2022. Requests received after April 7, 2022 will be accepted but may not be possible to accommodate.

Members of the public may submit written comments concerning TFAC affairs at any time before or after a meeting. Comments may be submitted to Patrick Zimet or Yuki Fujiyama at the contact information indicated above. All comments and statements received, including attachments and other supporting materials, are part of the public record and subject to public disclosure.

Christopher Hoff,
Deputy Assistant Secretary for Services.

[FR Doc. 2022-05205 Filed 3-10-22; 8:45 am]

BILLING CODE 3510-DS-P